NATIONAL FOUNDATION ON THE ARTS AND HUMANITIES

Institute of Museum and Library Services; Proposed Collection, Submission for OMB Review, Public Libraries Survey, 2008-2010

AGENCY: Institute of Museum and Library Services, NFAH.

ACTION: Notice.

SUMMARY: The Institute of Museum and Library Services announces the following information collection has been submitted to the Office of Management and Budget (OMB) for review and approval in accordance with the Paperwork Reduction Act of 1995 (Pub. L. 104-13, 44 U.S.C. Chapter 35). This program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted to the office listed in the contact section below on or before October 4, 2007.

OMB is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Barbara G. Smith, E-Projects Officer, Institute of Museum and Library Services, 1800 M Street, NW., 9th Floor, Washington, DC. Ms. Smith can be reached by telephone: 202-653-4688; fax: 202-653-8625; or e-mail: bsmith@imls.gov.

SUPPLEMENTARY INFORMATION: The Institute of Museum and Library Services is an independent Federal grant-making agency authorized by the Museum and Library Services Act, 20 U.S.C. 9101, et seq. Section 210 of the Act supports IMLS' data collection and analysis role. The IMLS provides a variety of grant programs to assist the nation's museums and libraries in improving their operations and enhancing their services to the public. Museums and libraries of all sizes and types may receive support from IMLS programs.

The Public Libraries Survey, conducted by the U.S. Department of Education, has OMB clearance number 1850-0689; it expires 7/31/2008. Plans are underway for the transfer of the Public Libraries Survey from the Dept. of Education to the Institute of Museum and Library Services beginning with Fiscal Year 2008. The responsibility for this data collection, and for the clearance process, will be transferred entirely to IMLS provided that funds are appropriated to the agency for this purpose in FY 2008.

Abstract: This survey collects annual descriptive data on the universe of public libraries in the U.S. and the Outlying Areas. Information such as public service hours per year, circulation of library books, etc., number of librarians, population of legal service area, expenditures for library collections, staff salary data, and access to technology are collected. Data are collected from each public library and are coordinated at the state level by a state data coordinator.

Current Actions: This notice proposes clearance of the Public Libraries Survey. The 60-day Notice for the “Public Libraries Survey” was published in the Federal Register on February 5, 2007 (FR vol. 72, no. 23, pgs 5301-5302.) No comments were received.

OMB Number: n/a.

Agency Number: 3137.

Affected Public: Federal, state and local governments, public libraries, state library agencies, general public.

Number of Respondents: 55.

Frequency: Annually.

Burden hours per respondent: 39.8 hours; Total burden hours: 2,189.

FOR FURTHER INFORMATION CONTACT: Comments should be sent to the Office of Information and Regulatory Affairs, Attn.: OMB Desk Officer for Education, Office of Management and Budget, Room 10235, Washington, DC 20503, (202) 395-7316.

Dated: August 29, 2007.
Barbara G. Smith,
E-Projects Officer, Office of the Chief Information Officer.

[FR Doc. E7-17395 Filed 8-31-07; 8:45 am]

BILLING CODE 7036-01-P